Title 3—

The President

Executive Order 13373 of March 10, 2005

Amendments to Executive Order 11926 Relating to the Vice Presidential Service Badge

By the authority vested in me as President by the Constitution and the laws of the United States of America, it is hereby ordered as follows:

Section 1. Amendments to Executive Order 11926. Executive Order 11926 of July 19, 1976, as amended by Executive Order 13286 of February 28, 2003, is further amended as follows:

(a) in section 1, by striking “and Coast Guard” and inserting in lieu thereof “Coast Guard, commissioned corps of the National Oceanic and Atmospheric Administration, and commissioned corps of the Public Health Service”;

(b) in section 1, by inserting “, or who have been assigned to perform duties predominantly for the Vice President for a period of at least one year subsequent to January 20, 2001, in the implementation of Public Law 93-346, as amended, or in military units and support facilities to which section 1 of Executive Order 12793 of March 20, 1992, as amended, refers” immediately preceding the period;

(c) in section 2, by striking “Military Assistant to the Vice President” and inserting in lieu thereof “Vice President's designee (with the concurrence of the Director of the White House Military Office in the case of personnel in military units or support facilities to which section 1 of Executive Order 12793, as amended, refers)”;

(d) in section 2, by inserting “and, in the case of members of the commissioned corps of the National Oceanic and Atmospheric Administration or the commissioned corps of the Public Health Service so assigned, by the Secretary of Commerce or the Secretary of Health and Human Services, respectively” immediately preceding the period;

(e) in section 5, by adding at the end of the section “No award shall be made to an individual under this Order based on a period of service with respect to which, in whole or in part, the individual was awarded the Presidential Service Badge.”;

(f) in section 6, by striking “and Coast Guard,” and inserting in lieu thereof “Coast Guard, commissioned corps of the National Oceanic and Atmospheric Administration, and commissioned corps of the Public Health Service,”;

(g) in section 6, by inserting “, or who has been assigned to perform duties predominantly for the Vice President, in the implementation of Public Law 93-346, as amended, or in military units and support facilities to which section 1 of Executive Order 12793, as amended, refers,” after “Office of the Vice President”;

(h) in section 6, by inserting “, unless otherwise directed by the Director of the White House Military Office in the case of personnel in military units or support facilities to which section 1 of Executive Order 12793, as amended, refers,” after “is authorized”;

(i) in section 6, by inserting “or her” after “his”; and

(j) in section 6, by striking “first day of duty in the Office of the Vice President” and inserting in lieu thereof “first day of such duty”.

Sec. 2. This order is not intended to, and does not, create any right or benefit, substantive or procedural, enforceable at law or in equity by any party against the United States, its departments, agencies, entities, officers, employees or agents, or any other person.

B

THE WHITE HOUSE,

March 10, 2005.

[FR Doc. 05-5097

Filed 3-11-05; 8:45 am]

Billing code 3195-01-P